DEPARTMENT OF AGRICULTURE

Forest Service

Huron-Manistee National Forests, Michigan, USA and State South Branch 1-8 Well

AGENCY: Forest Service, USDA.

ACTION: Revised Notice of Intent to prepare an Environmental Impact Statement for the USA and State South Branch 1-8 well.

SUMMARY: The Huron-Manistee National Forests (Forest Service) and the Bureau of Land Management (BLM), as a Cooperating Agency, will prepare an environmental impact statement (EIS) to assess the environmental impacts of an industry proposal to drill one exploratory natural gas well, the USA & State South Branch 1-8 (SB 1-8) well, on National Forest System lands. The EIS will also assess the impacts of constructing necessary infrastructure, including production facility and flowline, should the well be capable of producing hydrocarbons in commercial quantities. This analysis will allow the agencies to make their respective decisions on this proposal in accordance with federal regulations. This notice revises the dates for Draft and Final Environmental Impact Statements.

DATES: The Draft EIS is expected in November 2012 and the Final EIS is expected by June 2013.

ADDRESSES: Send written comments to Lauri Hogeboom, Interdisciplinary Team Leader, Huron-Manistee National Forests, 1755 S. Mitchell Street, Cadillac, MI 49601; fax: (231) 775-5551. Send electronic comments to: comments-eastern-huronmanistee@fs.fed.us.

FOR FURTHER INFORMATION CONTACT: Ken Arbogast, Huron-Manistee National Forests; telephone: (231) 775-2421; fax: (231) 775-5551. See address above under Addresses. Copies of documents may be requested at the same address. Another means of obtaining information is to visit the Forest Web page at www.fs.fed.us/r9/hmnf then click on “NEPA Projects and Planning,” then “Old Project page,” then “Mio projects,” and then “USA and State South Branch 1-8.”

Individuals who use telecommunication devices for the deaf (TTY) may call 1-(231) 775-3183.

SUPPLEMENTARY INFORMATION: The original notice of intent to prepare the environmental impact statement for the USA and State South Branch Well was published on February 24, 2010 (Vol. 75, No. 36, pages 8297-8299) with a corrected notice published on March 12, 2010 (Vol. 75, No. 48, pages 11838-11839).

Responsible Official for Lead Agency

Barry Paulson, Forest Supervisor, Huron-Manistee National Forests, 1755 S. Mitchell Street, Cadillac, MI 49601.

Responsible Official for Cooperating Agency

Mark Storzer, Field Manager, Bureau of Land Management, Milwaukee Field Office, 626 E. Wisconsin Ave. Suite 200, Milwaukee, WI 53202-4617.

Dated: December 12, 2011.
Barry Paulson,
Forest Supervisor.

[FR Doc. 2012-110 Filed 1-10-12; 8:45 am]

BILLING CODE 3410-11-M